DEPARTMENT OF THE INTERIOR

National Park Service

[NPS-WASO-NRNHL-DTS#-30039; PPWOCRADI0, PCU00RP14.R50000]

National Register of Historic Places; Notification of Pending Nominations and Related Actions

AGENCY: National Park Service, Interior.

ACTION: Notice.

SUMMARY: The National Park Service is soliciting comments on the significance of properties nominated before March 14, 2020, for listing or related actions in the National Register of Historic Places.

DATES: Comments should be submitted by April 23, 2020.

ADDRESSES: Comments may be sent via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before March 14, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Lyon, W. Parker, House (Cultural Resources of the Recent Past, City of Pasadena), 280 California Terrace, Pasadena, MP100005212

CONNECTICUT

New Haven County

East Haven High School, 200 Tyler St., East Haven, SG100005190

KENTUCKY

Muhlenberg County

Green, Professor William, House, 105 Paradise St., Greenville, SG100005194

MONTANA

Lewis and Clark County

Silver City Cemetery, Approximately 12 miles north-northwest of Helena, MT, Silver City vicinity, SG100005209

NORTH CAROLINA

Alamance County

Granite-Cora-Holt Mills Historic District, 122, 180, 218, 222, 224, and 226 East Main St.; 100, 102, 104, 106, 108, and 290 Cone Dr.; 115, 121, and 205 Stone St., Haw River, SG100005195

Chatham County

Bynum Bridge, Old Bynum Road, connecting SR 1871 and SR 1713 over Haw River, Bynum, SG100005196

Iredell County

Mooresville Historic District (Boundary Increase), (Iredell County MRA), Roughly includes properties fronting West Center Ave. from North Academy St. to Sherrill St.; Charlotte St.; 300 blk. of West McLelland Ave.; and properties fronting South Academy St. from West McLelland Ave. to Wilson St., Mooresville, BC100005197

Reid Memorial Presbyterian Church, 336 North Broad St., Mooresville, SG100005198

Orange County

Cedar Grove School, 5800 NC 86 North, Cedar Grove vicinity, SG100005201

Schley Grange Hall, 3416 Schley Rd., Schley vicinity, SG100005203

OHIO

Cuyahoga County

Stadium Square Historic District, South Taylor Rd., Superior Park Dr., Cleveland Heights, SG100005214

Logan County

Downtown Bellefontaine Historic District, Roughly bounded by Elm St., Sandusky Ave., Madriver St., and Auburn Ave., Bellefontaine, SG100005213

PENNSYLVANIA

Franklin County

Waynesboro Historic District, Main St. corridor between Franklin St., and Clayton Ave., and Clayton Ave. between Main St. and 5th St., including adjacent blocks and cross streets, Waynesboro, SG100005205

Lancaster County

Swarr, John and Elizabeth, House, 3000 Crossings Blvd., Manheim Township, SG100005207

Washington County

Washington Commercial Historic District, Roughly bounded by Spruce Ave., Park Ave., Shaffer Ave., Bownson Ave., and Franklin St., Washington, SG100005206

WYOMING

Uinta County

Black and Orange Cabins (Motor Courts and Motels in Wyoming, 1913-1975 MPS), 37000 Business Rte. I 80, Fort Bridger, MP100005191

Additional documentation has been received for the following resources:

KENTUCKY

Jefferson County

Cherokee Triangle Area Residential District (Additional Documentation), Roughly bounded by Bardstown Rd., Sherwood Rd., Broadway, east to jct. of Grinstead Dr. and Cherokee Pkwy., Louisville, AD76000902

Castleman, John B., Monument (Additional Documentation), (Civil War Monuments of Kentucky MPS), Jct. of Cherokee Rd. and Willow Ave., Louisville, AD97000690

NORTH CAROLINA

Iredell County

Mitchell College Historic District (Additional Documentation II), (Iredell County MRA), NC 90 and U.S. 70, Statesville, AD80002875

New Hanover County

Masonboro Sound Historic District (Additional Documentation), East side Magnolia Dr. and 7301-7601, 7424 and 7506 Masonboro Sound Rd., Wilmington vicinity, AD92001334

Wake County

Longview Gardens Historic District (Additional Documentation), Bounded roughly by King Charles Rd., Poole Rd., Donald Ross Dr., Albemarle Ave., Longview Lake Dr., and New Bern Ave., Raleigh, AD10001113

OHIO

Cuyahoga County

East Boulevard Historic District (Additional Documentation), Roughly bounded by East Blvd., St. Clair Ave., East 99th St. and University Cir., Cleveland, AD95001366

Nomination submitted by Federal Preservation Officer:

The State Historic Preservation Officer reviewed the following nomination and responded to the Federal Preservation Officer within 45 days of receipt of the nomination and supports listing the property in the National Register of Historic Places.

CALIFORNIA

Alameda County

Livermore Veterans Administration Hospital, Building 62 (United States Third Generation Veterans Hospitals, 1946-1958 MPS), 4951 Arroyo Rd., Livermore Division Campus, Livermore, MP100005208

Authority: Section 60.13 of 36 CFR part 60.

Dated: March 16, 2020.
Julie H. Ernstein,
Supervisory Archeologist, National Register of Historic Places/National Historic Landmarks Program.

[FR Doc. 2020-07351 Filed 4-7-20; 8:45 am]

BILLING CODE 4312-52-P